DEPARTMENT OF COMMERCE

National Oceanic and Atmospheric Administration

[Docket No. 0911041393-91393-01]

New NOAA Cooperative Institutes (CIs): (1) A CI to Support NOAA Research Facilities in the Pacific Northwest; (2) A CI for Southwestern U.S. Marine Ecosystems, Climate, and Ocean Studies; and (3) A Southeastern Regional CI for Atmospheric and Marine Studies.

AGENCY: Oceanic and Atmospheric Research (OAR), National Marine Fisheries Service (NMFS), National Oceanic and Atmospheric Administration (NOAA), Department of Commerce.

ACTION: Notice of funding availability.

SUMMARY: The Office of Oceanic and Atmospheric Research (OAR) and the National Marine Fisheries Service (NMFS) publish this notice to provide the general public with a consolidated source of program and application information related to three single competitive cooperative agreement award offerings. NOAA is accepting applications for: (1) A CI to Support NOAA Research Facilities in the Pacific Northwest; (2) a CI for Southwestern U.S. Marine Ecosystems, Climate and Ocean Studies; and (3) a Southeastern Regional CI for Atmospheric and Marine Studies. Applicants should review the CI Interim Handbook prior to preparing a proposal for this announcement (http://www.nrc.noaa.gov/ci).

DATES: Proposals must be received no later than February 10, 2010, 5 p.m., E.T. Proposals submitted after that date will not be considered.

ADDRESSES: Applicants are strongly encouraged to apply online through the Grants.Gov Web site (http://www.grants.gov). Paper submissions are acceptable only if Internet access is not available. Grants.gov requires applicants to register with the system prior to submitting an application. This registration process can take several weeks, involving multiple steps. In order to allow sufficient time for this process, you should register as soon as you decide that you intend to apply, even if you are not yet ready to submit your proposal. If an applicant has problems downloading the application package from Grants.gov, contact Grants.gov Customer Support at (800) 518-4726 or support@grants.gov.

If a hard copy application is submitted, the original and two unbound copies of the proposal should be included. Paper submissions should be sent to: Dr. John Cortinas, NOAA/OAR, 1315 East-West Highway, Room 11326, Silver Spring, MD 20910; telephone (301) 734-1090. No e-mail or facsimile proposal submissions will be accepted.

FOR FURTHER INFORMATION CONTACT: For further information, please contact Dr. John Cortinas, NOAA/OAR, 1315 East-West Highway, Room 11326, Silver Spring, MD 20910; telephone: (301) 734-1090; e-mail: John.Cortinas@noaa.gov.

SUPPLEMENTARY INFORMATION: All applicants must comply with all requirements contained in the Federal Funding Opportunity (FFO) announcements for each of these CIs.

CI Concept/Program Background: A CI is a NOAA-supported, nonfederal organization that has established an outstanding research program in one or more areas that are relevant to the NOAA mission. CIs are established at research institutions with outstanding graduate degree programs in NOAA-related sciences. CIs provide significant coordination of resources among all non-government partners and promote the involvement of students and postdoctoral scientists in NOAA-funded research. The CI provides mutual benefits with value provided by all parties. For each CI, NOAA has identified the need to establish a CI to focus on scientific research associated in support of NOAA's Strategic Plan, NOAA's 5-year Research Plan, and NOAA's 20-year Research Vision. (All documents are available at http://www.nrc.noaa.gov/plans.html).

A CI may partner with one or more research institutions that demonstrate outstanding performance within one or more established research programs in NOAA-related sciences, including Minority Serving Institutions and universities that can contribute to the proposed activities of the CI. If a CI is awarded to a consortium of institutions, the consortium must propose a governance structure that includes a single director and one award.

CIs will conduct research under approved scientific research themes, described in detail in Section I.B of each Federal Funding Opportunity announcement. Activities of the CI are usually organized into three Tasks (additional tasks can be proposed by the CI).

i. Task I activities are related to the management of the CI, as well as general education and outreach activities. This task also includes support of postdoctoral and visiting scientists conducting activities within the research themes of the CI that are approved by the CI Director, in consultation with NOAA, and are relevant to NOAA and the CI's mission goals.

ii. Task II activities usually involve on-going direct collaboration with NOAA scientists. This collaboration typically is fostered by the collocation of Federal and CI employees.

iii. Task III activities require minimal collaboration with NOAA scientists and may include research funded by other NOAA competitive grant programs.

Base funding for Task 1 is provided annually by NOAA to the CI, contingent upon the availability of Federal appropriations. Throughout the award period, funding for additional Task I activities, as well as Task II and III (or other tasks by a particular CI) activities is added to the CI award as research project proposals are submitted by the CI and approved by NOAA.

Request for Applications

Generally, applications must include all relevant Federal Standard Forms, a project description that includes sufficient information to address all the evaluation criteria identified in the FFO announcement, a budget, and a budget justification. The project description must include a thorough explanation of all themes and Tasks. The application should also identify the capability and the capacity of the CI to conduct research in the themes described in the FFO, as well as a summary of clearly stated goals to be achieved, reflecting NOAA's strategic goals and vision. Additional elements may also be requested. Applicants are directed to the FFO for all application information and requirements.

CI To Support NOAA Research Facilities in the Pacific Northwest

The proposed Pacific Northwest CI should possess outstanding capabilities to provide research under seven themes: (1) Ocean and coastal observations, (2) climate research and impacts, (3) environmental chemistry, (4) seafloor processes, (5) marine ecosystems, (6) protection and restoration of marine resources, and (7) tsunami observations and modeling. To conduct research under these themes, the proposed CI should possess the flexibility needed to work on multi-disciplinary research in collaboration with NOAA's Pacific Marine Environmental Laboratory, Climate Program Office, Alaska Fisheries Science Center, Northwest Fisheries Science Center, other CIs, and relevant Sea Grant programs. The location of the CI is required to be within a daily commuting distance to the Pacific Northwest NOAA facilities in Seattle, Washington, to promote ongoing close collaborations and training for the next generation of NOAA scientists. If the proposed CI is comprised of multiple member institutions, only the lead institution applying for the award and where the CI will be established must satisfy the daily commuting distance requirement.

Funding Availability: The award period will be 5 years, and may be renewed for up to an additional 5 years based on the outcome of a CI review in the fourth year. All funding is contingent upon the availability of Federal appropriations. NOAA anticipates that up to approximately $20M will be available annually for this CI. Of that amount, approximately $500,000 will be available per year for Task I. The final amount of funding available for Task I will be determined during the negotiation phase of the award based on availability of funding. The actual annual funding that the CI receives may be less than the anticipated amount and will depend on the actual projects that are proposed by the CI and approved by NOAA after the main CI award begins, the availability of funding, the quality of the research, the satisfactory progress in achieving the stated goals described in project proposals, and continued relevance to program objectives.

CI for Southwestern U.S. Marine Ecosystems, Climate, and Ocean Studies

The proposed Southwestern U.S. CI should possess outstanding capabilities to provide research under four themes: (1) Climate and coastal observations, analysis and prediction; (2) climate research and impacts; (3) marine ecosystems; and (4) ecosystem management. To conduct research under these themes, the proposed CI should possess the flexibility needed to work on multi-disciplinary research in collaboration with NOAA's Southwest Fisheries Science Center, Climate Program Office, relevant Sea Grant programs, and other CIs. The location of the CI is required to be within a daily commuting distance to the Southwest Fisheries Science Center in La Jolla, California, to promote ongoing close collaborations with NOAA and training for the next generation of NOAA scientists. If the proposed CI is comprised of multiple member institutions, only the lead institution applying for the award and where the CI will be established must satisfy the daily commuting distance requirement.

Funding Availability: The award period will be 5 years, and may be renewed for up to an additional 5 years based on the outcome of a CI review in the fourth year. All funding is contingent upon the availability of Federal appropriations. NOAA anticipates that up to approximately $11M will be available annually for this CI. Of that amount, approximately $500,000 will be available per year for Task I. The final amount of funding available for Task I will be determined during the negotiation phase of the award based on availability of funding. The actual annual funding that the CI receives may be less than the anticipated amount and will depend on the actual projects that are proposed by the CI and approved by NOAA after the main CI award begins, the availability of funding, the quality of the research, the satisfactory progress in achieving the stated goals described in project proposals, and continued relevance to program objectives.

Southeastern Regional CI for Atmospheric and Marine Studies

The proposed Southeastern Regional CI should possess outstanding capabilities to provide research under seven themes: (1) Sustained ocean and coastal observations, (2) climate research and impacts, (3) tropical weather, (4) ocean modeling, (5) ecosystem modeling and forecasting, (6) ecosystem management, and (7) protection and restoration of resources. To conduct research under these themes, the proposed CI should possess the flexibility needed to work on multi-disciplinary research in collaboration with NOAA's Southeast Fisheries Science Center, Atlantic Oceanographic and Meteorological Laboratory, relevant Sea Grant programs, and other CIs. The location of the CI is required to be within a daily commuting distance to NOAA's Atlantic Oceanographic and Meteorological Laboratory and Southeast Fisheries Science Center in Miami, Florida, to promote ongoing close collaborations with NOAA and training for the next generation of NOAA scientists. If the proposed CI is comprised of multiple member institutions, only the lead institution applying for the award and where the CI will be established must satisfy the daily commuting distance requirement.

Funding Availability: The award period will be 5 years, and may be renewed for up to an additional 5 years based on the outcome of a CI review in the fourth year. All funding is contingent upon the availability of Federal appropriations. NOAA anticipates that up to approximately $10M will be available annually for this CI. Of that amount, approximately $500,000 will be available per year for Task I. The final amount of funding available for Task I will be determined during the negotiation phase of the award based on availability of funding. The actual annual funding that the CI receives may be less than the anticipated amount and will depend on the actual projects that are proposed by the CI and approved by NOAA after the main CI award begins, the availability of funding, the quality of the research, the satisfactory progress in achieving the stated goals described in project proposals, and continued relevance to program objectives.

Electronic Access: Applicants can access, download, and submit electronic grant applications, including the full funding opportunity announcement, for NOAA programs at the Grants.gov Web site: http://www.grants.gov. The closing date will be the same as for the paper submissions noted in this announcement. For applicants filing through Grants.gov, NOAA strongly recommends that you do not wait until the application deadline date to begin the application process through Grants.gov. Registration may take up to 10 business days.

Proposals must include elements requested in the full Federal Funding Opportunity announcement on the grants.gov portal. If a hard copy application is submitted, NOAA requests that the original and two unbound copies of the proposal be included. Proposals, electronic or paper, should be no more than 75 pages (numbered) in length, excluding budget, investigators, vitae, and all appendices. Federally mandated forms are not included within the page count. Facsimile transmissions and electronic mail submission of full proposals will not be accepted.

Authority: 15 U.S.C. 313, 15 U.S.C. 1540; 15 U.S.C. 2901 et seq., 16 U.S.C. 753a, 33 U.S.C. 1442, Stat. 71 (January 23, 2004).

(Catalog of Federal Domestic Assistance: 11.432, Office of Oceanic and Atmospheric Research (OAR) Joint and Cooperative Institutes)

Eligibility: Eligibility is limited to non-Federal public and private non-profit universities, colleges and research institutions that offer accredited graduate level degree-granting programs in NOAA-related sciences. The lead institution applying for the award and where the CI will be established must also satisfy the daily commuting distance requirement.

Cost Sharing Requirements: To stress the collaborative nature and investment of a CI by both NOAA and the research institution, cost sharing is required. There is no minimum cost sharing requirement; however, the amount of cost sharing will be considered when determining the level of the CI's commitment under NOAA's standard evaluation criteria for overall qualifications of applicants. Acceptable cost-sharing proposals include, but are not limited to, offering a reduced indirect cost rate against activities in one or more Tasks, waiver of any indirect costs assessed by the awardee on subawards, waiver of indirect costs assessed against base funds and/or Task I activities, waiver or reduction of any costs associated with the use of facilities at the CI, and full or partial salary funding for the CI director, administrative staff, graduate students, visiting scientists, or postdoctoral scientists.

Evaluation Criteria and Review and Selection Procedures: The general evaluation criteria and selection factors that apply to full applications to this funding opportunity are summarized below. The evaluation criteria for full applications will have different weights and details. Further information about the evaluation criteria and selection factors can be found in the official full Federal Funding Opportunity announcement which is only available through the Grants.gov Web site (http://www.grants.gov).

Evaluation Criteria for Projects: Proposals will be evaluated using the standard NOAA evaluation criteria. Various questions under each criterion are provided to ensure that the applicant includes information that NOAA will consider important during the evaluation, in addition to any other information provided by the applicant.

1. Importance and/or relevance and applicability of proposed project to the program goals (25 percent): This criterion ascertains whether there is intrinsic value in the proposed work and/or relevance to NOAA, Federal, regional, state, or local activities.

• Does the proposal include research goals and projects that address the critical issues identified in NOAA's 5-year Research Plan, NOAA's Strategic Plan, and program priorities (see Section I.B. of the full funding opportunity announcement)?

• Is there a demonstrated commitment (in terms of resources and facilities) to enhance existing NOAA and CI resources to foster a long-term collaborative research environment/culture?

• Is there a strong education program with established graduate degree programs in NOAA-related sciences that also encourage student participation in NOAA-related research studies?

2. Technical/scientific merit (30 percent): This criterion assesses whether the approach is technically sound and/or innovative, if the methods are appropriate, and whether there are clear project goals and objectives.

• Does the project description include a summary of clearly stated goals to be achieved during the five year period that reflect NOAA's strategic plan and goals?

• Does the CI involve partnerships with other universities or research institutions, including Minority Serving Institutions and universities that can contribute to the proposed activities of the CI?

3. Overall qualifications of applicants (30 percent): This criterion ascertains whether the applicant possesses the necessary education, experience, training, facilities, and administrative resources to accomplish the project.

• If the institution(s) and/or principal investigators have received current or recent NOAA funding, is there a demonstrated record of outstanding performance working with NOAA and/or NOAA scientists on research projects?

• Is there nationally and/or internationally recognized expertise within the appropriate disciplines needed to conduct the collaborative/interdisciplinary research described in the proposal?

• Is there a well-developed business plan that includes fiscal and human resource management, as well as strategic planning and accountability?

• Are there any unique capabilities in a mission-critical area of research for NOAA?

• Has the applicant shown a substantial investment to the NOAA partnership, as demonstrated by the amount of the cost sharing contribution?

4. Project costs (5 percent): The budget is evaluated to determine if it is realistic and commensurate with the project needs and time-frame.

5. Outreach and education (10 percent): NOAA assesses whether this project provides a focused and effective education and outreach strategy regarding NOAA's mission to protect the Nation's natural resources.

Review and Selection Process: An initial administrative review/screening is conducted to determine compliance with requirements/completeness. All proposals will be evaluated and individually ranked in accordance with the assigned weights of the above-listed evaluation criteria by an independent peer review panel. At least three experts, who may be Federal or non-Federal, will be used in this process. If non-Federal experts participate in the review process, each expert will submit an individual review and there will be no consensus opinion. The merit reviewers' ratings are used to produce a rank order of the proposals. The Selecting Official selects proposals after considering the peer reviews and selection factors listed below. In making the final selections, the Selecting Official will award in rank order unless the proposal is justified to be selected out of rank order based upon one or more of the selection factors. The Selecting Official makes the final award recommendation to the Grants Officer authorized to obligate funds.

Selection Factors: The merit review ratings shall provide a rank order to the Selecting Official for final funding recommendations. The Selecting Official shall award in the rank order unless the proposal is justified to be selected out of rank order based upon one or more of the following factors:

1. Availability of funding.

2. Balance/distribution of funds:

(a) Geographically

(b) By type of institutions

(c) By type of partners

(d) By research areas

(e) By project types

3. Whether this project duplicates other projects funded or considered for funding by NOAA or other Federal agencies.

4. Program priorities and policy factors.

5. Applicant's prior award performance.

6. Partnerships and/or participation of targeted groups.

7. Adequacy of information necessary for NOAA staff to make a National Environmental Policy Act (NEPA) determination and draft necessary documentation before recommendations for funding are made to the Grants Officer.

Intergovernmental Review: Applications under this program are not subject to Executive Order 12372, “Intergovernmental Review of Federal Programs.”

Limitation of Liability: In no event will NOAA or the Department of Commerce be responsible for proposal preparation costs if these programs fail to receive funding or are cancelled because of other agency priorities. Publication of this announcement does not oblige NOAA to award any specific project or to obligate any available funds.

National Environmental Policy Act (NEPA): National Environmental Policy Act (NEPA). NOAA must analyze the potential environmental impacts, as required by NEPA, for applicant projects or proposals which are seeking NOAA federal funding opportunities. Detailed information on NOAA compliance with NEPA can be found at the NOAA NEPA Web site, http://www.nepa.noaa.gov, including our NOAA Administrative Order 216-6 for NEPA, http://www.corporateservices.noaa.gov/%7Eames/NAOs/Chap_216/naos_216_6.html, and the Council on Environmental Quality implementation regulations, http://www.nepa.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required.

Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL has been approved by the Office of Management and Budget (OMB) under the respective control numbers 4040-004, 4040-006, 0348-0040, and 0348-0046. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: November 6, 2009.
Mark E. Brown,
Chief Financial Officer, Office of Oceanic and Atmospheric Research, National Oceanic and Atmospheric Administration.

[FR Doc. E9-27332 Filed 11-12-09; 8:45 am]

BILLING CODE 3510-KD-P